DEPARTMENT OF VETERANS AFFAIRS

[OMB Control No. 2900-0853]

Agency Information Collection Activity Under OMB Review: Application for Approval of a Program in a Foreign Country

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent by September 29, 2025.

ADDRESSES: To submit comments and recommendations for the proposed information collection, please type the following link into your browser: www.reginfo.gov/public/do/PRAMain, select “Currently under Review—Open for Public Comments”, then search the list for the information collection by Title or “OMB Control No. 2900-0853.”

FOR FURTHER INFORMATION CONTACT: VA PRA information: Dorothy Glasgow, 202-461-1084, VAPRA@va.gov.

SUPPLEMENTARY INFORMATION:

Title: Application for Approval of a Program in a Foreign Country (VA Form 22-0976).

OMB Control Number: 2900-0853, https://www.reginfo.gov/public/do/PRASearch.

Type of Review: Revision of a currently approved collection.

Abstract: The VA will use the information collected to determine if a program in a foreign country is approvable under CFR 21.4260. In order for a review and decision to be made, the VA needs supporting information from a foreign educational institution. After completing the form, foreign institutions will continue to download the VA Form 22-0976 from the GI Bill website and submit it via email to federal.approvals@va.gov.

An agency may not conduct or sponsor, and a person is not required to respond to a collection of information unless it displays a currently valid OMB control number. The Federal Register Notice with a 60-day comment period soliciting comments on this collection of information was published at 90 FR 27071, June 25, 2025.

Affected Public: Educational Institutions.

Estimated Annual Burden: 137 hours.

Estimated Average Burden per Respondent: 20 minutes.

Frequency of Response: Annually.

Estimated Number of Respondents: 412.

Authority: 44 U.S.C. 3501 et seq.

Dorothy Glasgow,
Acting, VA PRA Clearance Officer, Office of Enterprise and Integration, Data Governance Analytics, Department of Veterans Affairs.

[FR Doc. 2025-16464 Filed 8-27-25; 8:45 am]

BILLING CODE 8320-01-P